DEPARTMENT OF COMMERCE

National Oceanic and Atmospheric Administration

50 CFR Part 622

[Docket No. 060525140-6221-02; I.D. 092606D]

Fisheries of the Caribbean, Gulf of Mexico, and South Atlantic; Reef Fish Fishery of the Gulf of Mexico; Closure of the 2006 Golden Tilefish and Snowy Grouper Commercial Fisheries

AGENCY: National Marine Fisheries Service (NMFS), National Oceanic and Atmospheric Administration (NOAA), Commerce.

ACTION: Temporary rule; closure.

SUMMARY: NMFS closes the commercial fisheries for golden tilefish and snowy grouper in the exclusive economic zone (EEZ) of the South Atlantic. NMFS has determined that the golden tilefish and snowy grouper quotas for the commercial fisheries will have been reached by October 23, 2006. This closure is necessary to protect the golden tilefish and snowy grouper resources.

DATES: Closure is effective 12:01 a.m., local time, October 23, 2006, until 12:01 a.m., local time, on January 1, 2007.

FOR FURTHER INFORMATION CONTACT: Jason Rueter, telephone 727-824-5350, fax 727-824-5308, e-mail Jason.Rueter@noaa.gov.

SUPPLEMENTARY INFORMATION: The snapper-grouper fishery of the South Atlantic is managed under the Fishery Management Plan for the Snapper-Grouper Resources of the South Atlantic (FMP). The FMP was prepared by the South Atlantic Fishery Management Council and is implemented under the authority of the Magnuson-Stevens Fishery Conservation and Management Act (Magnuson-Stevens Act) by regulations at 50 CFR part 622. Those regulations set the commercial quota for golden tilefish in the South Atlantic at 295,000 lb (133,810 kg), gutted weight (GW), and 151,000 lb (68,492 kg), GW, for snowy grouper for the current fishing year, January 1 through December 31, 2006.

Under 50 CFR 622.43(a), NMFS is required to close the commercial fishery for a species or species group when the quota for that species or species group is reached, or is projected to be reached, by filing a notification to that effect in the Federal Register. Based on current statistics, NMFS has determined that the available commercial quota of 295,000 lb (133,810 kg), GW, for golden tilefish and 151,000 lb (68,492 kg), GW, for snowy grouper will be reached on or before October 23, 2006. Accordingly, NMFS is closing the commercial golden tilefish and snowy grouper fisheries in the South Atlantic EEZ from 12:01 a.m., local time, on October 23, 2006, until 12:01 a.m., local time, on January 1, 2007. The operator of a vessel with a valid commercial vessel permit for South Atlantic snapper-grouper having golden tilefish and/or snowy grouper aboard must have landed and bartered, traded, or sold such golden tilefish and/or snowy grouper prior to 12:01 a.m., local time, October 23, 2006.

During the closure, the appropriate bag limits specified in 50 CFR 622.39(d)(1) and the applicable possession limits specified in 50 CFR 622.39(d)(2) apply to all harvest or possession of golden tilefish and snowy grouper in or from the South Atlantic EEZ, and the sale or purchase of golden tilefish or snowy grouper taken from the EEZ is prohibited. The prohibition on sale or purchase does not apply to sale or purchase of golden tilefish or snowy grouper that were harvested, landed ashore, and sold prior to 12:01 a.m., local time, October 23, 2006, and were held in cold storage by a dealer or processor.

Classification

This action responds to the best available information recently obtained from the fisheries. The Assistant Administrator for Fisheries, NOAA, finds that the need to immediately implement this action to close the fisheries constitutes good cause to waive the requirements to provide prior notice and opportunity for public comment pursuant to the authority set forth in 5 U.S.C. 553(b)(3)(B), as such procedures would be unnecessary and contrary to the public interest. Similarly, there is a need to implement these measures in a timely fashion to prevent an overrun of the commercial quotas of South Atlantic golden tilefish and snowy grouper, given the capacity of the fishing fleet to harvest the quotas quickly. Any delay in implementing this action would be impractical and contrary to the Magnuson-Stevens Act, the FMP, and the public interest. For these same reasons, NMFS finds good cause that the implementation of this action cannot be delayed for 30 days. Accordingly, under 5 U.S.C. 553(d), a delay in the effective date is waived.

This action is taken under 50 CFR 622.43(a) and is exempt from review under Executive Order 12866.

Authority: 16 U.S.C. 1801 et seq.

Dated: October 5, 2006.
James P. Burgess,
Acting Director, Office of Sustainable Fisheries, National Marine Fisheries Service.

[FR Doc. E6-16934 Filed 10-11-06; 8:45 am]

BILLING CODE 3510-22-S